DEPARTMENT OF COMMERCE

International Trade Administration

ICT Trade Mission to Saudi Arabia; Application Deadline Extended

AGENCY: International Trade Administration, Department of Commerce.

ACTION: Notice.

Timeframe for Recruitment and Applications

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows.

Recruitment for the mission will begin immediately and conclude no later than February 7, 2011. The U.S. Department of Commerce will review all applications immediately after the deadline. We will inform applicants of selection decisions as soon as possible after February 7, 2011. Applications received after that date will be considered only if space and scheduling constraints permit.

Contacts

U.S. Commercial Service Domestic Contact

Natalia Susak, Commercial Service Trade Missions Program, Phone: 202-482-4423, Fax: 202-482-9000, E-mail: Natalia.Susak@trade.gov.

U.S. Commercial Service Saudi Arabia Contacts

Ahmed Khayyat, Phone: 966/1/488-3800 x 4441, Fax: 966/1/488-3237, E-mail: ahmed.khayyat@trade.gov.

Natalia Susak, Trade Promotion Programs, Commercial Service Trade Missions Program, Phone: 202-482-4423, Fax: 202-482-9000, E-mail: Natalia.Susak@trade.gov.

[FR Doc. 2011-2800 Filed 2-8-11; 8:45 am]

BILLING CODE 3510-FP-P